SMALL BUSINESS ADMINISTRATION

Small Business Innovation Research Rural Outreach Program To Provide Outreach and Technical Assistance to Small Technology-Based Businesses

AGENCY: Small Business Administration.

ACTION: Program Announcement No. SBIRROP-04-R-0003.

SUMMARY: The U.S. Small Business Administration (SBA) plans to issue Program Announcement No. SBIRROP-04-R-0003 to invite applicants from the 25 eligible states including the District of Columbia and the Commonwealth of Puerto Rico to conduct outreach and provide technical assistance to small technology-based small business owners. This program is authorized by the Small Business Act, § 9(s)(2), 15 U.S.C. 638(s)(2). There is a one proposal per state limitation on this competition. Only one proposal from each state may be submitted to SBA for consideration, and this application must have an original signed Letter of Endorsement from the State Governor or Mayor for the District of Columbia. Prospective recipients of SBA funding under this Program Announcement include both new applicants and prior year SBIR-ROP Program service providers. Eligible applicants include, but are not limited to, state and local Economic Development Agencies, colleges and universities and Small Businesses Development Centers. Funds will be provided to conduct programs for a 12-month budget and performance period. Applications/proposals must be postmarked by 4 p.m., Eastern Daylight Time, May 12, 2004. If using a delivery service other than the U.S. Postal Service, the application must be delivered and accepted by the Office of Procurement and Grants Management by the deadline specified above. SBA will select successful applicants using a competitive process. The SBIR-ROP Program is authorized through Fiscal Year 2005 and will be competed annually, subject to availability of funds. There is a non-Federal match requirement for this program. The program announcement will be available at http://www.sba.gov/sbir.

DATES: The application period will be from March 31, 2004 until May 12, 2004.

FOR FURTHER INFORMATION CONTACT: Cherina Hughes, (202) 205-7344, regarding the Program Announcement and Patricia Branch, (202) 205-7081, about budget matters.

Edsel M. Brown, Jr.,
Assistant Administrator, SBA Office of Technology.

[FR Doc. 04-7972 Filed 4-7-04; 8:45 am]

BILLING CODE 8025-01-P